DEPARTMENT OF LABOR

Employment and Training Administration

Proposed Collection; Comment Request

AGENCY: Employment and Training Administration, DOL.

ACTION: Notice.

SUMMARY: The U.S. Department of Labor, as part of its continuing effort to reduce paperwork and respondent burden conducts a pre-clearance consultation program to provide the general public and Federal agencies with an opportunity to comment on proposed and/or continuing collections of information in accordance with the Paperwork Reduction Act of 1995 (PRA95 (44 U.S.C. 35069(c)(2)(A)). This program helps to ensure that requested data can be provided in the desired format, reporting burden (time and financial resources) is minimized, collection instruments are clearly understood, and the impact of collection requirements on respondents can be properly assessed. Currently, the Interagency Federal Agency Team from the Departments of Labor, Education, Health and Human Services, Agriculture, and Housing and Urban Development is soliciting comments concerning the proposed reinstatement of the Workforce Investment Act: Final Unified State Planning Guidance (OMB Control No. 1205-0407), should states desire to submit a modification to their current plan. A copy of the proposed information collection request (ICR) can be obtained by contacting the office listed below.

FOR FURTHER INFORMATION CONTACT: Maria Flynn, Office of One-Stop Operations/ATTN: Dolores Hall-Beran, U.S. Department of Labor, 200 Constitution Avenue, NW., Room S-4231, Washington, DC 20210: (202) 693-3045 (phone) (this is not a toll-free number); e-mail at dberan@doleta.gov; fax at: (202) 693-3015, call TTD at: 1-800-326-2577. Information may also be found at the Web site— http://www.doleta.gov/usworkforce/

SUPPLEMENTARY INFORMATION:

I. Background

Section 501 of the Workforce Investment Act (Public Law 105-220) provides the Governor of the state the option to submit a strategic Unified State Plan for two or more of the activities or programs listed in section 501(b)(2) of the Act, which include secondary vocational education programs authorized under the Carl D. Perkins Vocational and Applied Technology Education Act, programs authorized under the title I of the Rehabilitation Act of 1973, other programs administered by Federal agencies other than the Department of Labor (DOL) as well as title I of WIA and other programs administered by DOL. The Unified Planning process provides an opportunity for states to maximize joint planning and coordination among a variety of programs and activities. States have the option of submitting a single plan for up to 16 Federal education and training programs. The Unified Plan outlines a 5-year strategy for the statewide workforce investment system of the State.

Acting on behalf of the Secretaries from each agency whose program is included in the Plan, senior managers from these respective agencies, complete a comprehensive coordinated review of the Unified State Plan modification submitted by the Governor. Based upon this review, the appropriate Secretaries of the federal agencies listed above, make a determination of whether the Plan or its modification is consistent with each program or activities' governing legislation. If no outstanding issues are noted, the Unified Plan modification is approved; if deficiencies are noted, the Governor is advised that the state must submit clarification or additional information. Modifications to the Unified Plan during the 5-year period undergo a comparable review and determination followed by a letter indicating approval or the need for additional information or clarification.

II. WIA Reauthorization

Reauthorization of the Workforce Investment Act is scheduled for 2003. The Administration is in the process of developing a reauthorization proposal which may impact the Unified Planning Process.

Note: Since the original publication date, several of the Interagency Federal staff contact information listed in Section C (Programs and Activities) of the Unified Planning Guidance has changed. Should State staff require information on the programs and activities listed WIA section 501(b)(2), please note the following new contact information:

U.S. Department of Education, Office Vocational and Adult Education (OVAE)

—Secondary Vocational Education Programs (Perkins III/Secondary);

—Postsecondary Vocational Education (Perkins II/Postsecondary;

—Tech-Prep Education (Title II of Perkins III); and

—Activities authorized under Title II of WIA (Adult Education and Family Literacy Programs):

Contact: Daniel Bonner, Director of Policy Analysis: 202-260-2517 (phone); 202-260-9183 (fax); (e-mail: Daniel.Bonner@ed.gov).

U.S. Department of Labor, Employment and Training Administration (ETA)

—Activities authorized under Title I (Workforce Investment Activities for Adults, Dislocated Workers and Youth or WIA Title I):

Contact: Maria Flynn, Office of Workforce Investment, Division of One-Stop Operations/ATTN: Dolores Hall-Beran: 202-693-3045 (phone); 202-693-6336 (fax); (e-mail: mflynn@doleta.gov or dberan@doleta.gov).

—Activities authorized under chapter 2 of title II of the Trade Act of 1974 as amended (Trade Act Programs):

Contact: Edward Tomchick: 202-693-3577 (phone); 202-693-3584); (e-mail: etomchick@doleta.gov).

—Programs authorized under the Wagner-Peyser Act (Employment Service):

Contact: Stephanie Cabell: 202-693-3171 (phone); 202-693-3015 (fax); (e-mail: scabell@doleta.gov.

—Programs authorized under State unemployment compensation laws (Unemployment Insurance):

Contact: William Coyne: 202-693-3202 (phone); 202-693-3975 (fax); (e-mail: wcoyne@doleta.gov).

—Programs authorized under title V of the Older Americans Act of 1965 (Senior Community Service Employment Program, or SCSEP):

Contact: Robert Lunz: 202-693-3762 (phone); 202-693-3817 (fax); (e-mail: rlunz@doleta.gov).

U.S. Department of Labor, Veterans' Employment and Training Service (VETS)

—Programs authorized under chapters 41 and 42 of Title 38, U.S.C., and 20 CFR parts 1001 and 1005 (Veterans Programs, including Veterans Employment, Disabled Veterans' Outreach Program and Local Veterans' Employment Representative Programs):

Contact: Miguel Hernandez: 202-693-4708 (phone); 202-693-4755 (fax); (e-mail: Hernandez-miguel@dol.gov.)

U.S. Department of Housing and Urban Development (HUD)

—Training activities funded by HUD under the Community Development Block Grants (CDBG) and Public Housing Programs:

Contact: Jeffery Lubell: 202-708-1537 ext. 5915 (phone); (e-mail: Jeffery_m._lubell@hud.gov.)

U.S. Department of Health and Human Services (HHS)

—Programs authorized under the Community Services Block Grant Act (Community Services Block Grant, or CSBG):

Contact: Brandy RayNor-Hill: 202-205-5926 (phone); 202-401-5718 (fax); (e-mail: braynor@acf.hhs.gov).

III. Current Actions

Section 501 of the Workforce Investment Act (Public Law 105-220) provides the Governor of the state the option to submit a strategic Unified State Plan for two or more of the activities or programs listed in section 501(b)(2) of the Act. The Unified State Planning Guidance Instructions outlines a strategy for the submission of a unified plan for the statewide workforce investment system that meets the requirements of Title V of the Act. This reinstatement is needed in order for state governments to submit modifications to their Unified State Plan. These modifications may be needed in order to keep the Plan a viable, living document over its five-year life. The Act gives states the authority to modify WIA Plans at any time and the recently issued Training and Employment Guidance Letter No. 4-02 encourages states to use the unified planning guidance to move from stand-alone planning to a unified planning process. This reinstatement is needed in order for state governments to have available the document used during their initial submission of State Plans, should the state need to submit a modification to its existing Plan.

IV. Review Focus

The Department of Labor is particularly interested in comments which:

(1) Evaluate whether the proposed collection of information is necessary for the proper performance of the functions of the agency, including whether the information will have practical utility;

(2) Evaluate the accuracy of the agency's estimate of the burden of the proposed collection of information, including the validity of the methodology and assumptions used; (3) Enhance the quality, utility, and clarify the information to be collected; and

(4) Minimize the burden of the collection of information on those who are to respond, including through the use of appropriate automated, electronic, mechanical, or other technological collection techniques or other forms of information, (e.g, electronic submissions of responses via e-mail submission, faxes, etc.).

Type of Review: Reinstatement.

Agency: Employment and Training Administration.

Title: State Unified Plan Planning Guidance (for State Unified Plans Submitted under section 501 of the Workforce Investment Act of 1998).

OMB Number: 1205-0407.

Total Respondents: 57.

Frequency: As Needed.

Total Responses Received: 23.

Average Time per Response: 25 hours.

Estimated Total Burden Hours: 734.

Total Burden Cost (capital/startup): $0.

Total Burden Cost (operating/maintaining): $0.

Comments submitted in response to this comment request will be summarized and/or included in the request for the Office of Management and Budget's approval of the information collection request; they will also become a matter of public record.

Signed at Washington, DC this 10th day of December, 2002.
Grace A. Kilbane,
Administrator, Office of Workforce Investment, Employment and Training Administration.

[FR Doc. 02-31560 Filed 12-12-02; 8:45 am]

BILLING CODE 4510-30-P